OFFICE OF THE UNITED STATES TRADE REPRESENTATIVE

International Trade Data System Visa Requirements Under the African Growth and Opportunity Act

AGENCY: Office of the United States Trade Representative.

ACTION: Notice.

SUMMARY: The United States Trade Representative is directing the Commissioner of Customs and Border Protection to permit importers to submit electronic images of an appropriate export visa from a beneficiary sub-Saharan African country when claiming preferential treatment for entries of textile and apparel products under the African Growth and Opportunity Act.

DATES: Effective Date: February 8, 2016.

FOR FURTHER INFORMATION CONTACT: Constance Hamilton, Deputy Assistant United States Trade Representative for Africa, Office of African Affairs, 202 395 9576, Constance_Hamilton@ustr.eop.gov.

SUPPLEMENTARY INFORMATION: The African Growth and Opportunity Act (Title I of the Trade and Development Act of 2000, Public Law 106-200) (AGOA) provides preferential tariff treatment for imports of certain textile and apparel products of designated beneficiary sub-Saharan African countries.

In January 2001 (66 FR 7837 Jan. 25, 2001), the United States Trade Representative (USTR) directed the Commissioner of Customs (now, the Commissioner of Customs and Border Protection) to take the actions necessary to ensure that textile and apparel articles described in section 112(b) of the AGOA (19 U.S.C. 3721(b)) that are entered or withdrawn from a warehouse for consumption are accompanied by an appropriate export visa, if the preferential treatment described in section 112(a) of the AGOA (19 U.S.C. 3721(a)) is claimed with respect to such articles. The directions to the Commissioner required that a shipment be visaed by stamping an original circular visa, in blue ink only, on the front of the original commercial invoice. Duplicate copies were not permitted. In order to obtain preferential tariff treatment under section 112(a) of the AGOA, the original of the invoice with the original visa stamp was required.

On February 19, 2014, President Obama issued Executive Order 13659 titled “Streamlining the Export/Import Process for America's Businesses” (79 FR 10657, Feb 25, 2014), which directed the U.S. Customs and Border Protection (CBP) to develop a more efficient and cost effective trade processing infrastructure called the International Trade Data System (ITDS) to modernize and simplify the way that executive departments and agencies interact with traders. The ITDS includes an electronic information exchange capability or “single window” known as the Automated Commercial Environment (ACE), through which businesses will transmit data required by agencies with trade-related responsibilities for the importation or exportation of cargo. When fully implemented in December 2016, ACE/ITDS will be the primary means by which participating agencies will receive from users the standard set of data and other relevant documentation required for the release of imported cargo and the clearance of cargo for export.

With this notice, the USTR is modifying the 2001 directions to the Commissioner to implement use of the ACE by importers from a beneficiary sub-Saharan African country when claiming preferential treatment under section 112(a) of the AGOA for eligible textile and apparel products that are entered or withdrawn from a warehouse for consumption. More specifically, the USTR is directing the Commissioner to allow importers to provide an appropriate export visa submitted electronically via the Document Image System or other approved functionality in ACE or any CBP approved successor system. A shipment still must be visaed by stamping an original circular visa, in blue ink only, on the front of the original commercial invoice. For ease of use, the visa stamp requirements published in 2001 are reproduced below without substantive change. Providing an electronic image of the original visa stamped invoice is not considered duplication for purposes of these instructions. The USTR also advises the Commissioner that an importer must provide the original of the invoice with the original visa stamp for physical inspection upon request by CBP personnel in accordance with 19 CFR part 163.

Each visa stamp shall include the following information:

1. Visa Number. The visa stamp is a nine digit format beginning with one numeric digit for the designated grouping (1 to 9), as described below. This number is followed by the two character alpha code specified by the International Organization for Standardization (ISO) for the designated beneficiary sub-Saharan African country, followed by a six digit numerical serial number identifying the shipment.

Grouping 1: Apparel articles assembled in one or more beneficiary sub-Saharan African countries from fabrics wholly formed and cut in the United States, from yarns wholly formed in the United States.

Grouping 2: Apparel articles assembled in one or more beneficiary sub-Saharan African countries from fabrics wholly formed and cut in the United States, from yarns wholly formed in the United States if, after assembly, the articles would have qualified for entry under subheading 9802.00.80 of the Harmonized Tariff Schedule of the United States but for the fact that the articles were embroidered or subject to stone washing, enzyme washing, acid washing, perma pressing, oven baking, bleaching, garment dyeing, screen printing, or other similar processes.

Grouping 3: Apparel articles cut in one or more beneficiary sub-Saharan African countries from fabric wholly formed in the United States from yarns wholly formed in the United States if the articles are assembled in one or more beneficiary sub-Saharan African countries with thread formed in the United States.

Grouping 4: Apparel articles wholly assembled in one or more beneficiary sub-Saharan African countries from fabric wholly formed in one or more beneficiary sub-Saharan African countries from yarn originating either in the United States or one or more beneficiary sub-Saharan African countries.

Grouping 5: Apparel articles wholly assembled in one or more lesser-developed beneficiary sub-Saharan countries regardless of the country of origin of the fabric used to make the articles.

Grouping 6: Sweaters in chief weight of cashmere, knit to shape in one or more beneficiary sub-Saharan African countries and classifiable under subheading 6110.10 of the Harmonized Tariff Schedule of the United States.

Grouping 7: Sweaters, 50 percent or more by weight of wool measuring 18.5 microns in diameter or finer, knit-to-shape in one or more beneficiary sub-Saharan African countries.

Grouping 8: Apparel articles wholly assembled in one or more beneficiary sub-Saharan African countries from fabric or yarn not formed in the United States or any beneficiary sub-Saharan African country, if (1) apparel articles of such fabrics or yarns would be eligible for preferential treatment, without regard to the source of the fabric or yarn, under Annex 401 to the North American Free Trade Agreement, or (2) the President proclaims that apparel articles of such fabric or yarn may be accorded preferential tariff treatment under the AGOA.

Grouping 9: Handmade, hand-loomed, or folklore articles (qualifying articles will be determined following bilateral consultations).

The product groupings described above are in summary form. Interested persons should refer to section 112(b) of the AGOA for a complete description of the textile and apparel products for which preferential treatment may be claimed under section 112(a) of the AGOA.

2. Date of Issuance. The date of issuance is the day, month and year on which the visa was signed by an authorized government official.

3. Authorized Signature. The original signature of an authorized official of the beneficiary sub-Saharan African country or his designate.

4. Correct Grouping and Quantity. The correct grouping, the total quantity, and the unit of quantity in the shipment must be provided within the visa stamp. Quantities must be stated in whole numbers. Decimals or fractions will not be accepted. If the quantity indicated on the visa is less than that of the shipment, only the quantity shown on the visa is eligible for preferential tariff treatment under section 112(a) of the AGOA. If the quantity indicated on the visa is more than that of the shipment, only the quantity of the shipment is eligible for preferential tariff treatment under section 112(a) of the AGOA. Any overage cannot be applied to any other shipment.

A visa will not be accepted and preferential tariff treatment under section 112(a) of the AGOA will not be permitted if the visa number, date of issuance, authorized signature, correct grouping, quantity or the unit of quantity is missing, incorrect, illegible or has been crossed out or altered in any way. If the visa is not acceptable, a new visa must be obtained from an authorized official of the beneficiary sub-Saharan African country, or his designate, before preferential tariff treatment under section 112(a) of the AGOA can be claimed. Waivers are not permitted.

Florizelle Liser,
Assistant United States Trade Representative for African Affairs, Office of the United States Trade Representative.

[FR Doc. 2016-00838 Filed 1-15-16; 8:45 am]

BILLING CODE 3290-F6-P